DEPARTMENT OF ENERGY

Federal Energy Regulatory Commission

Combined Notice of Filings #1

Take notice that the Commission received the following electric rate filings:

Docket Numbers: ER11-3095-001.

Applicants: Deseret Generation & Transmission Co-operative, Inc.

Description: Deseret Generation & Transmission Co-operative, Inc. submits tariff filing per 35.17(b): Amendment to Section 205 Tariff Filing 4-29-2011 to be effective 4/1/2011.

Filed Date: 04/29/2011.

Accession Number: 20110429-5452.

Comment Date: 5 p.m. Eastern Time on Friday, May 20, 2011.

Docket Numbers: ER11-3430-001.

Applicants: Arizona Public Service Company.

Description: Arizona Public Service Company submits tariff filing per 35.17(b): Amendment to Second WestConnect Participation Agreement Filing to be effective 7/1/2011.

Filed Date: 04/29/2011.

Accession Number: 20110429-5373

Comment Date: 5 p.m. Eastern Time on Friday, May 20, 2011.

Docket Numbers: ER11-3471-000.

Applicants: Midwest Independent Transmission System Operative, Inc., MidAmerican Energy Company.

Description: Midwest Independent Transmission System Operator, Inc. submits tariff filing per 35.13(a)(2)(iii: MidAmerican-CIPCO WDS SA 2334 to be effective 6/1/2011.

Filed Date: 04/29/2011.

Accession Number: 20110429-5344.

Comment Date: 5 p.m. Eastern Time on Friday, May 20, 2011.

Docket Numbers: ER11-3472-000.

Applicants: Midwest Independent Transmission System Operative, Inc., MidAmerican Energy Company.

Description: Midwest Independent Transmission System Operator, Inc. submits tariff filing per 35.13(a)(2)(iii: MidAmerican-IPL WDS SA 2335 to be effective 6/1/2011.

Filed Date: 04/29/2011.

Accession Number: 20110429-5345.

Comment Date: 5 p.m. Eastern Time on Friday, May 20, 2011.

Docket Numbers: ER11-3473-000.

Applicants: Florida Power & Light Company.

Description: Florida Power & Light Company submits tariff filing per 35.12: FPL and GTC Rate Schedule FERC No. 321 to be effective 6/28/2011.

Filed Date: 04/29/2011.

Accession Number: 20110429-5346.

Comment Date: 5 p.m. Eastern Time on Friday, May 20, 2011.

Docket Numbers: ER11-3474-000.

Applicants: Southwest Power Pool, Inc.

Description: Southwest Power Pool, Inc. submits tariff filing per 35.13(a)(2)(iii: 1313R3 Oklahoma Gas and Electric Company NITSA NOA to be effective 4/1/2011.

Filed Date: 04/29/2011.

Accession Number: 20110429-5347.

Comment Date: 5 p.m. Eastern Time on Friday, May 20, 2011.

Docket Numbers: ER11-3475-000.

Applicants: Bangor Hydro Electric Company, ISO New England Inc.

Description: Bangor Hydro Electric Company submits tariff filing per 35.13(a)(2)(iii: BHE New LSA Agreements and Notice of Cancellation in Docket ER10-111-000 to be effective 1/1/2011.

Filed Date: 04/29/2011.

Accession Number: 20110429-5348.

Comment Date: 5 p.m. Eastern Time on Friday, May 20, 2011.

Docket Numbers: ER11-3476-000.

Applicants: New York Independent System Operator, Inc., Niagara Mohawk Power Corporation.

Description: New York Independent System Operator, Inc. submits tariff filing per 35.13(a)(2)(iii: NiMo NYPA Agreement No. 1743 to be effective 2/1/2011.

Filed Date: 04/29/2011.

Accession Number: 20110429-5349.

Comment Date: 5 p.m. Eastern Time on Friday, May 20, 2011.

Docket Numbers: ER11-3477-000.

Applicants: Midwest Independent Transmission System Operator, Inc.

Description: Midwest Independent Transmission System Operator, Inc. submits tariff filing per 35.13(a)(2)(iii: 04-29-11 Att HH to be effective 6/29/2011.

Filed Date: 04/29/2011.

Accession Number: 20110429-5414.

Comment Date: 5 p.m. Eastern Time on Friday, May 20, 2011.

Docket Numbers: ER11-3478-000.

Applicants: Southwest Power Pool, Inc.

Description: Southwest Power Pool, Inc. submits tariff filing per 35.13(a)(2)(iii: 1166R13 Oklahoma Municipal Power Authority NITSA NOA to be effective 4/1/2011.

Filed Date: 04/29/2011.

Accession Number: 20110429-5439.

Comment Date: 5 p.m. Eastern Time on Friday, May 20, 2011.

Docket Numbers: ER11-3479-000.

Applicants: Consolidated Edison Company of New York, Inc., New York Independent System Operator, Inc.

Description: Consolidated Edison Company of New York, Inc. submits tariff filing per 35.13(a)(2)(iii: LGIA Among NYISO, Con Edison, and Hudson Transmission Partners to be effective 4/20/2011.

Filed Date: 04/29/2011.

Accession Number: 20110429-5443.

Comment Date: 5 p.m. Eastern Time on Friday, May 20, 2011.

Docket Numbers: ER11-3480-000.

Applicants: Wolverine Power Supply Cooperative, Inc.

Description: Wolverine Power Supply Cooperative, Inc. submits tariff filing per 35.13(a)(1): Request for Change in Rates to Distribution Cooperative Members-Owners to be effective 7/1/2011.

Filed Date: 04/29/2011.

Accession Number: 20110429-5507.

Comment Date: 5 p.m. Eastern Time on Friday, May 20, 2011.

Docket Numbers: ER11-3481-000.

Applicants: Idaho Power Company.

Description: Idaho Power Company submits tariff filing per 35.13(a)(2)(iii: RTSA Baseline Corrections to be effective 5/2/2011.

Filed Date: 04/29/2011.

Accession Number: 20110429-5512.

Comment Date: 5 p.m. Eastern Time on Friday, May 20, 2011.

Docket Numbers: ER11-3482-000.

Applicants: Idaho Power Company.

Description: Idaho Power Company submits tariff filing per 35.15: Termination of Revised Service Agreement for Imnaha to be effective 5/2/2011.

Filed Date: 04/29/2011.

Accession Number: 20110429-5543.

Comment Date: 5 p.m. Eastern Time on Friday, May 20, 2011.

Docket Numbers: ER11-3483-000.

Applicants: New England Power Pool Participants Committee.

Description: New England Power Pool Participants Committee submits tariff filing per 35.13(a)(2)(iii: May 2011 Membership Filing to be effective 4/1/2011.

Filed Date: 04/29/2011.

Accession Number: 20110429-5546.

Comment Date: 5 p.m. Eastern Time on Friday, May 20, 2011.

Take notice that the Commission received the following electric securities filings:

Docket Numbers: ER11-31-000.

Applicants: MDU Resources Group, Inc.

Description: Application of DU Resources Group, Inc. for authority to issue securities in connection with 401(k) plan.

Filed Date: 04/29/2011.

Accession Number: 20110429-5584.

Comment Date: 5 p.m. Eastern Time on Friday, May 20, 2011.

Docket Numbers: ES11-32-000.

Applicants: Northern Indiana Public Service Company.

Description: Application of Northern Indiana Public Service Company for Authorization Under Section 204(a) of the FPA to Issue Short-Term Debt.

Filed Date: 04/29/2011.

Accession Number: 20110429-5589.

Comment Date: 5 p.m. Eastern Time on Friday, May 20, 2011.

Take notice that the Commission received the following land acquisition reports:

Docket Numbers: LA11-1-000.

Applicants: Niagara Generation, LLC.

Description: Land Acquisition Report (1Q 2011) of Niagara Generation, LLC.

Filed Date: 04/29/2011.

Accession Number: 20110429-5230.

Comment Date: 5 p.m. Eastern Time on Friday, May 20, 2011.

Docket Numbers: LA11-1-000.

Applicants: Eagle Creek Hydro Power, LLC.

Description: Site Acquisition Report of Eagle Creek Hydro Power, LLC.

Filed Date: 04/29/2011.

Accession Number: 20110429-5406.

Comment Date: 5 p.m. Eastern Time on Friday, May 20, 2011.

Docket Numbers: LA11-1-000.

Applicants: AEE2, L.L.C., AES Alamitos, LLC, AES Armenia Mountain Wind, LLC, AES Creative Resources, L.P., AES Eastern Energy, L.P., AES Energy Storage, LLC, AES ES Westover, LLC, AES Huntington Beach, L.L.C., AES Ironwood, L.L.C., AES Laurel Mountain, LLC, AES Red Oak, L.L.C., AES Redondo Beach, L.L.C., Condo Wind Power, LLC, Mountain View Power Partners, LLC, Mountain View Power Partners, IV, LLC, Indianapolis Power & Light Company.

Description: Report of Site Acquisition of The AES Corporation.

Filed Date: 04/29/2011.

Accession Number: 20110429-5564.

Comment Date: 5 p.m. Eastern Time on Friday, May 20, 2011.

Docket Numbers: LA11-1-000.

Applicants: East Coast Power Linden Holding, LLC, Cogen Technologies Linden Venture, L.P., Fox Energy Company, LLC, Birchwood Power Partners, L.P., Shady Hills Power Company, LLC, EFS Parlin Holdings, LLC, Inland Empire Energy Center, LLC.

Description: Site Acquisition Report of The GE Companies.

Filed Date: 04/29/2011.

Accession Number: 20110429-5583.

Comment Date: 5 p.m. Eastern Time on Friday, May 20, 2011.

Docket Numbers: LA11-1-000.

Applicants: Arthur Kill Power LLC, Astoria Gas Turbine Power, LLC, Avenal Park LLC, Bayou Cove Peaking Power LLC, Big Cajun I Peaking Power LLC, Cabrillo Power I, LLC, Cabrillo Power II LLC, Conemaugh Power LLC, Connecticut Jet Power LLC, Cottonwood Energy LP, Devon Power LLC, Dunkirk Power LLC, El Segundo Power, LLC, El Segundo Power II, LLC, GenConn Devon LLC, GenConn Energy LLC, GenGonn Middletown LLC, Green Mountain Energy Company, Huntley Power LLC, Indian River Power LLC, Keystone Power LLC, Long Beach Generation LLC, Long Beach Peakers, LLC, Louisiana Generating LLC, Middletown Power LLC, Montville Power LLC, NEO Freehold-Gen LLC, Norwalk Power LLC, NRG Energy Center Dover LLC, NRG Energy Center Paxton LLC, NRG New Jersey Energy Sales LLC, NRG Power Marketing LLC, NRG Rockford LLC, NRG Rockford II LLC, NRG Solar Blythe LLC, NRG Sterlington Power LLC, Oswego Harbor Power LLC, Saguaro Power Company, A Limited Partnership, Sand Drag LLC, Somerset Power LLC, Sun City Project LLC, Vienna Power LLC.

Description: Motion of NRG Power Marketing LLC et al., See Appendix A for a list of all Public Utilities and MBR Docket Numbers)Order 697-C Compliance Filing Regarding Site Control.

Filed Date: 04/29/2011.

Accession Number: 20110429-5588.

Comment Date: 5 p.m. Eastern Time on Friday, May 20, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: May 02, 2011.
Nathaniel J. Davis, Sr.,
Deputy Secretary.

[FR Doc. 2011-11322 Filed 5-9-11; 8:45 am]

BILLING CODE 6717-01-P